NUCLEAR REGULATORY COMMISSION

Advisory Committee on the Medical Uses of Isotopes: Meeting Notice

AGENCY: U.S. Nuclear Regulatory Commission.

ACTION: Notice of Meeting.

SUMMARY: The U.S. Nuclear Regulatory Commission will convene a teleconference meeting of the Advisory Committee on the Medical Uses of Isotopes (ACMUI) on September 20, 2007. This meeting is a continuation of the discussion of training and experience implementation issues in the medical community from the June 12, 2007 and August 16, 2007 ACMUI meetings. The meeting will be a discussion of various items related to the training and experience criteria in 10 CFR part 35, which includes but is not limited to: Preceptor availability and recency of training requirements. A copy of the agenda for the meeting can be obtained at http://www.nrc.gov/reading-rm/doc-collections/acmui/agenda or by contacting Ms. Ashley M. Tull at the contact information below.

DATES: The teleconference meeting will be held on Thursday, September 20, 2007, from 1 p.m. to 3 p.m Eastern Daylight Time.

Public Participation: Any member of the public who wishes to participate in the teleconference discussion should contact Ms. Tull using the contact information below.

FOR FURTHER INFORMATION CONTACT: Ashley M. Tull, e-mail: amt1@nrc.gov, telephone: (301) 415-5294 or (918) 488-0552.

Conduct of the Meeting

Leon S. Malmud, M.D., will chair the meeting. Dr. Malmud will conduct the meeting in a manner that will facilitate the orderly conduct of business. The following procedures apply to public participation in the meeting:

1. Persons who wish to provide a written statement should submit an electronic copy to Ms. Tull at the contact information listed above. All submittals must be received by September 17, 2007, and must pertain to the topic on the agenda for the meeting.

2. Questions and comments from members of the public will be permitted during the meeting, at the discretion of the Chairman.

3. The transcript and written comments will be available for inspection on NRC's Web site (www.nrc.gov) and at the NRC Public Document Room, 11555 Rockville Pike, Rockville, MD 20852-2738, telephone (800) 397-4209, on or about December 20, 2007. Minutes of the meeting will be available on or about October 20, 2007.

This meeting will be held in accordance with the Atomic Energy Act of 1954, as amended (primarily Section 161a); the Federal Advisory Committee Act (5 U.S.C. App); and the Commission's regulations in Title 10, U.S. Code of Federal Regulations, Part 7.

Dated: August 22, 2007.
Andrew L. Bates,
Advisory Committee Management Officer.

[FR Doc. E7-17091 Filed 8-28-07; 8:45 am]

BILLING CODE 7590-01-P